DEPARTMENT OF ENERGY

Federal Energy Regulatory Commission

Combined Notice of Filings

Take notice that the Commission has received the following Natural Gas Pipeline Rate and Refund Report filings:

Filings Instituting Proceedings

Docket Numbers: PR15-9-000.

Applicants: American Midstream (Alabama Intrastate), LLC.

Description: Tariff filing per 284.123(b)(2) +(g): Rate Petition to be effective 12/1/2014; TOFC: 1310.

Filed Date: 11/26/14.

Accession Number: 20141126-5004.

Comments Due: 5 p.m. ET 12/17/14.

284.123(g) Protests Due: 5 p.m. ET 1/26/15.

Docket Numbers: RP15-218-000.

Applicants: Trailblazer Pipeline Company LLC.

Description: § 4(d) rate filing per 154.204: NC Contract 2014-11-24 Mercuria to be effective 12/1/2014.

Filed Date: 11/26/14.

Accession Number: 20141126-5052.

Comments Due: 5 p.m. ET 12/8/14.

Docket Numbers: RP15-219-000.

Applicants: Rockies Express Pipeline LLC.

Description: § 4(d) rate filing per 154.204: Neg Rate A&R Antero 11-26-14 to be effective 12/1/2014.

Filed Date: 11/26/14.

Accession Number: 20141126-5053.

Comments Due: 5 p.m. ET 12/8/14.

Docket Numbers: RP15-220-000.

Applicants: El Paso Natural Gas Company, L.L.C.

Description: § 4(d) rate filing per 154.403(d)(2): EPNG Fuel Filing to be effective 1/1/2015.

Filed Date: 11/26/14.

Accession Number: 20141126-5107.

Comments Due: 5 p.m. ET 12/8/14.

Docket Numbers: RP15-221-000.

Applicants: Natural Gas Pipeline Company of America.

Description: § 4(d) rate filing per 154.204: Mercuria Energy Negotiated Rate to be effective 12/1/2014.

Filed Date: 11/26/14.

Accession Number: 20141126-5108.

Comments Due: 5 p.m. ET 12/8/14.

Docket Numbers: RP15-222-000.

Applicants: El Paso Natural Gas Company, L.L.C.

Description: § 4(d) rate filing per 154.601: Non-Conforming Agreement Update Filing (APS OPASA) to be effective 1/1/2015.

Filed Date: 11/26/14.

Accession Number: 20141126-5158.

Comments Due: 5 p.m. ET 12/8/14.

Docket Numbers: RP15-223-000.

Applicants: Northern Natural Gas Company.

Description: § 4(d) rate filing per 154.204: 20141126 Negotiated Rate to be effective 12/1/2014.

Filed Date: 11/26/14.

Accession Number: 20141126-5245.

Comments Due: 5 p.m. ET 12/8/14.

Docket Numbers: RP15-224-000.

Applicants: Alliance Pipeline L.P.

Description: § 4(d) rate filing per 154.204: 2015 Jan 1-Nov 30 2015 Neg Rate to be effective 1/1/2015.

Filed Date: 11/28/14.

Accession Number: 20141128-5054.

Comments Due: 5 p.m. ET 12/10/14.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: PR13-12-003.

Applicants: Southern California Gas Company.

Description: Tariff filing per 284.123(b)(1),: Revised Statement of Operating Conditions to be effective 3/1/2013; TOFC: 1000.

Filed Date: 11/26/14.

Accession Number: 20141126-5083.

Comments Due: 5 p.m. ET 12/3/14

284.123(g) Protests Due:

Docket Numbers: RP12-318-006.

Applicants: Texas Eastern Transmission, LP.

Description: Compliance filing per 154.203: Reservation Charge Credit Nov2014 Compliance Filing to be effective 12/1/2014.

Filed Date: 11/26/14.

Accession Number: 20141126-5030.

Comments Due: 5 p.m. ET 12/8/14.

Any person desiring to protest in any of the above proceedings must file in accordance with Rule 211 of the Commission's Regulations (18 CFR 385.211) on or before 5:00 p.m. Eastern time on the specified date(s).

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2014.
Nathaniel J. Davis, Sr.,
Deputy Secretary.

[FR Doc. 2014-28742 Filed 12-8-14; 8:45 am]

BILLING CODE 6717-01-P